DEPARTMENT OF COMMERCE

INTERNATIONAL TRADE ADMINISTRATION

U.S. Travel and Tourism Advisory Board: Meeting of the U.S. Travel and Tourism Advisory Board

AGENCY: International Trade Administration, U.S. Department of Commerce.

ACTION: Notice of an open meeting.

SUMMARY: The U.S. Travel and Tourism Advisory Board (Board) will hold a meeting to discuss topics related to the travel and tourism industry. The Board was re-chartered on September 21, 2007, to advise the Secretary of Commerce on matters relating to the travel and tourism industry.

DATES: September 16, 2009.

Time: 2 p.m. (ET).

ADDRESSES: Department of Commerce, 1401 Constitution Avenue, NW., Room 4830, Washington, DC 20230. Because of building security, all non-government attendees must pre-register. This program will be physically accessible to people with disabilities. Seating is limited and will be on a first come, first served basis. Requests for sign language interpretation, other auxiliary aids, or pre-registration, should be submitted no later than September 10, 2009, to J. Marc Chittum, U.S. Travel and Tourism Advisory Board, Room 4043, 1401 Constitution Avenue, NW., Washington, DC 20230, telephone 202-482-4501, Marc.Chittum@mail.doc.gov.

FOR FURTHER INFORMATION CONTACT: J. Marc Chittum, U.S. Travel and Tourism Advisory Board, Room 4043, 1401 Constitution Avenue, NW., Washington, DC 20230, telephone: 202-482-4501, e-mail: Marc.Chittum@mail.doc.gov.

Dated: August 27, 2009.
J. Marc Chittum,
Executive Secretary, U. S. Travel and Tourism Advisory Board.

[FR Doc. E9-21167 Filed 8-28-09; 4:15 pm]

BILLING CODE 3510-DR-P